CONSUMER PRODUCT SAFETY COMMISSION

16 CFR Parts 1112 and 1262

[Docket No. CPSC-2021-0037]

Safety Standard for Magnets; Notice of Opportunity for Oral Presentation of Comments

AGENCY: Consumer Product Safety Commission.

ACTION: Notice of proposed rulemaking; notice of opportunity for oral presentation of comments.

SUMMARY: The Consumer Product Safety Commission (Commission or CPSC) will be providing an opportunity for interested parties to present oral comments on the notice of proposed rulemaking (NPR) the Commission issued regarding a safety standard for magnets. Any oral comments will be part of the rulemaking record.

DATES: The hearing will begin at 10 a.m. Eastern Standard Time (EST) on March 2, 2022, via webinar. All attendees should pre-register for the webinar online at: https://attendee.gotowebinar.com/register/7528473084591026190.

Any individual interested in making an oral presentation must register for the webinar and submit a request to make an oral presentation to the Division of the Secretariat, along with the written text of the oral presentation, and such requests must be received no later than 5 p.m. EST on February 23, 2022. All other individuals who wish to attend the meeting should register before the start of the hearing.

ADDRESSES: The hearing will be held via webinar. Attendance is free of charge. Submit requests to make oral presentations and the written text of oral presentations to the Division of the Secretariat, with the caption, “Magnets NPR; Oral Presentation,” by email to cpsc-os@cpsc.gov, or by mail to the Division of the Secretariat, Consumer Product Safety Commission, 4330 East-West Highway, Bethesda, MD 20814. Detailed instructions for those making oral presentations and other attendees will be made available on the CPSC public calendar.

FOR FURTHER INFORMATION CONTACT: For information about the subject matter of this hearing, contact Stephen Harsanyi, Project Manager, Consumer Product Safety Commission, 5 Research Place, Rockville, MD 20850; email: SHarsanyi@cpsc.gov. For information about the procedure to make an oral presentation, contact Alberta E. Mills, Division of the Secretariat, Consumer Product Safety Commission, 4330 East-West Highway, Bethesda, MD 20814; cpsc-os@cpsc.gov.

SUPPLEMENTARY INFORMATION:

I. Background

On January 10, 2022, the Commission published an NPR in the Federal Register, proposing to issue a safety standard for magnets under the Consumer Product Safety Act (CPSA; 15 U.S.C. 2051-2089), and seeking written comments. 87 FR 1260. The proposed rule seeks to address the risk of injury or death associated with magnet ingestions, by requiring loose or separable magnets in subject magnet products to be either too large to swallow, or weak enough to reduce the risk of internal interaction injuries when swallowed. The proposed rule would apply to “subject magnet products,” which are consumer products that are designed, marketed, or intended to be used for entertainment, jewelry (including children's jewelry), mental stimulation, stress relief, or a combination of these purposes, and that contain one or more loose or separable magnets. The NPR proposed a rule to require each loose or separable magnet in a subject magnet product that fits entirely within CPSC's small parts cylinder (described in 16 CFR 1501.4) to have a flux index of less than 50 kG² mm². Toys that are subject to CPSC's mandatory toy standard in 16 CFR part 1250 are exempt from the proposed rule. The NPR is available at: https://www.govinfo.gov/content/pkg/FR-2022-01-10/pdf/2021-27826.pdf, and CPSC staff's briefing package for the NPR is available at: https://www.cpsc.gov/s3fs-public/Proposed-Rule-Safety-Standard-for-Magnets.pdf?VersionId=2Xizl5izY1OvQRVazWpkqdJHXg5vzRY.

II. The Public Hearing

The Administrative Procedure Act (5 U.S.C. 551-562) and section 9 of the CPSA require the Commission to provide interested parties with an opportunity to submit “written data, views, or arguments” regarding a proposed rule. 5 U.S.C. 553(c); 15 U.S.C. 2058(d)(2). The NPR invited such written comments. In addition, section 9 of the CPSA requires the Commission to provide interested parties “an opportunity for oral presentation of data, views, or arguments” 15 U.S.C. 2058(d)(2). The Commission must keep a transcript of such oral presentations. Id. In accordance with this requirement, the Commission is providing a forum for oral presentations concerning the proposed standard for magnets.

To request the opportunity to make an oral presentation, see the information under the DATES and ADDRESSES sections of this notice. Participants should limit their presentations to approximately 10 minutes, excluding time for questioning by the Commissioners or CPSC staff. To avoid duplicate presentations, groups should designate a spokesperson, and the Commission reserves the right to limit presentation times or impose further restrictions, as necessary.

Alberta E. Mills,
Secretary, Consumer Product Safety Commission.

[FR Doc. 2022-03166 Filed 2-14-22; 8:45 am]

BILLING CODE 6355-01-P